DEPARTMENT OF TRANSPORTATION

Federal Aviation Administration

14 CFR Part 39

[Docket No. 2002-NM-111-AD; Amendment 39-12733; AD 2002-08-21]

RIN 2120-AA64

Airworthiness Directives; Empresa Brasileira de Aeronautica S.A. (EMBRAER) Model EMB-135 and -145 Series Airplanes

AGENCY: Federal Aviation Administration, DOT.

ACTION: Final rule; request for comments.

SUMMARY: This amendment supersedes an existing airworthiness directive (AD), applicable to certain EMBRAER Model EMB-135ER and “135LR series airplanes, and Model EMB-145, -145ER, -145MR, and -145LR series airplanes, that currently requires a one-time inspection to determine if the bonding jumpers that connect the horizontal stabilizer to the vertical stabilizer are properly installed, a one-time inspection to determine if the supports that connect the bonding jumpers to the horizontal stabilizer are deformed, and corrective actions if necessary. This amendment requires new repetitive inspections to detect discrepancies of both vertical-to-horizontal stabilizer bonding jumpers and the connecting support structure; and corrective action, if necessary. This amendment also revises the applicability to include additional airplanes. The actions specified in this AD are intended to prevent damaged or severed bonding jumpers, which, in the event of a lightning strike, could result in severed elevator control cables and consequent reduced elevator control capability and reduced controllability of the airplane. This AD is intended to address the identified unsafe condition.

DATES: Effective May 16, 2002.

The incorporation by reference of EMBRAER Alert Service Bulletin 145-55-A028, dated April 10, 2002, as listed in the regulations, is approved by the Director of the Federal Register as of May 16, 2002.

The incorporation by reference of EMBRAER Alert Service Bulletin 145-55-A025, dated June 5, 2001, as listed in the regulations, was approved previously by the Director of the Federal Register as of September 5, 2001 (66 FR 43768, August 21, 2001).

Comments for inclusion in the Rules Docket must be received on or before May 31, 2002.

ADDRESSES: Submit comments in triplicate to the Federal Aviation Administration (FAA), Transport Airplane Directorate, ANM-114, Attention: Rules Docket No. 2002-NM-111-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2002-NM-111-AD” in the subject line and need not be submitted in triplicate. Comments sent via the Internet as attached electronic files must be formatted in Microsoft Word 97 for Windows or ASCII text.

The service information referenced in this AD may be obtained from Empresa Brasileira de Aeronautica S.A. (EMBRAER), PO Box 343—CEP 12.225, Sao Jose dos Campos—SP, Brazil. This information may be examined at the FAA, Transport Airplane Directorate, 1601 Lind Avenue, SW., Renton, Washington; or the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Rob Capezutto, Senior Engineer, Systems and Flight Test Branch, ACE-116A, FAA, Atlanta Aircraft Certification Office, One Crown Center, 1895 Phoenix Boulevard, suite 450, Atlanta, Georgia 30349; telephone (770) 703-6071; fax (770) 703-6097.

SUPPLEMENTARY INFORMATION: On August 13, 2001, the FAA issued AD 2001-17-04, amendment 39-12395 (66 FR 43768, August 21, 2001), applicable to certain EMBRAER Model EMB-135ER and -135LR series airplanes, and Model EMB-145, -145ER, -145MR, and -145LR series airplanes. That AD requires a one-time visual inspection to determine if the two bonding jumpers that connect the horizontal stabilizer to the vertical stabilizer are properly installed, and replacement of the jumper with a new jumper, if necessary. That AD also requires a one-time visual inspection to determine if the supports that connect the bonding jumpers to the horizontal stabilizer are deformed, and corrective actions, if necessary. That AD was prompted by a report indicating that a post-lightning strike inspection of a Model EMB-145 series airplane revealed that the bonding jumpers that electrically bond the vertical and horizontal stabilizers were severed, the elevator cables were damaged, one elevator cable was severed, and the other elevator cable had arcing damage. The actions required by that AD are intended to prevent reduced elevator control capability, and consequent reduced controllability of the airplane, due to severed bonding jumpers.

Actions Since Issuance of Previous Rule

Since the issuance of that AD, the Departmento de Aviacao Civil (DAC), which is the airworthiness authority for Brazil, has advised that a recent lightning strike event occurred on a Model EMB-145 series airplane. Subsequent inspection revealed that both bonding jumpers of the horizontal-to-vertical stabilizer were severed; the control cables of the left lower and right upper elevators near the rear sectors on the horizontal-to-vertical stabilizer were also severed. The results of the inspection indicated that one of the bonding jumpers may have been damaged or severed prior to the lightning strike, which could have resulted in the lightning current path traveling through the elevator control cables. The airplane involved in the lightning strike event had been inspected at the factory using the procedures specified in EMBRAER Alert Service Bulletin 145-55-A025, dated June 5, 2001, which is required by AD 2001-17-04. Because certain airplanes had already been inspected per EMBRAER Alert Service Bulletin 145-55-A025 at the factory, they were therefore not subject to the requirements of that AD. In light of this information, the FAA finds that all EMBRAER Model EMB-145 and -135 series airplanes are subject to the identified unsafe condition. The applicability of this AD has been revised accordingly.

Explanation of Relevant Service Information

• The manufacturer has issued EMBRAER Alert Service Bulletin 145-55-A028, dated April 10, 2002, which describes the following procedures:

• Repetitive visual inspections of both bonding jumpers of the horizontal-to-vertical stabilizer to detect overstretching, fraying, or other damage; and misalignment or other incorrect installation;

• Repetitive visual inspections of the two supports that connect the bonding jumpers to the horizontal stabilizer to detect deformation and signs of cracks or ruptures; and

• Inspection of any discrepant support to assess the general condition of its paint.

The alert service bulletin also describes procedures for corrective actions, which include replacing any discrepant part with a new one and restoring the support paint. The DAC classified this alert service bulletin as mandatory and issued Brazilian emergency airworthiness directive 2001-06-03 R1, dated April 11, 2002, to ensure the continued airworthiness of these airplanes in Brazil.

Alert Service Bulletin 145-55-A028 refines the procedures specified in EMBRAER Alert Service Bulletin 145-55-A025 (which is cited in AD 2001-17-04 as the appropriate source of service information for the one-time inspection and associated follow-on actions). In addition, Alert Service Bulletin 145-55-A028 recommends that the inspection be repeated at regular intervals. In other respects, the procedures specified in the two alert service bulletins are similar.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Rule

Since an unsafe condition has been identified that is likely to exist or develop on other airplanes of the same type design registered in the United States, this AD supersedes AD 2001-17-04 to continue to require a one-time inspection to assess the installation of the bonding jumpers that connect the horizontal stabilizer to the vertical stabilizer, a one-time inspection to determine if the supports that connect the bonding jumpers to the horizontal stabilizer are deformed, and corrective actions if necessary. This AD also requires accomplishment of the repetitive inspections and corrective actions if necessary, per EMBRAER Alert Service Bulletin 145-55-A028, as described previously, except as discussed below. This AD also requires that operators report the results of each new repetitive inspection to the DAC.

Differences Between AD and Alert Service Bulletin

This AD requires accomplishment of the initial inspection within 100 flight hours, although EMBRAER Alert Service Bulletin 145-55-A028 specifies an initial compliance time of 200 flight hours. The FAA and the DAC have determined that a 200-flight-hour compliance time will not address the identified unsafe condition in a timely manner. In developing an appropriate compliance time for this AD, the FAA considered the recommendations of both the DAC and the manufacturer, the degree of urgency associated with addressing the identified unsafe condition, the average utilization of the affected fleet, and the time necessary to perform the inspection (about 2 hours). In light of all of these factors, the FAA finds a 100-flight-hour initial compliance time warranted because it represents an appropriate interval of time allowable for affected airplanes to continue to operate without compromising safety.

In addition, this AD requires that the inspection required by this AD be performed immediately following a lightning strike or the removal of the horizontal stabilizer, the horizontal stabilizer actuator, or either seal fairing. The Brazilian emergency airworthiness directive does not specifically mandate an immediate inspection under those circumstances. This AD includes these requirements to ensure that the inspections are performed and reports are submitted following any of these maintenance procedures or any lightning strike event.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2002-NM-111-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12395 (66 FR 43768, August 21, 2001), and by adding a new airworthiness directive (AD), amendment 39-12733, to read as follows:

2002-08-21 Empresa Brasileira De Aeronautica S.A. (Embraer): Amendment 39-12733. Docket 2002-NM-111-AD. Supersedes AD 2001-17-04, Amendment 39-12395.

Applicability: All Model EMB-135 and-145 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance per paragraph (j) of this AD. The request should include an assessment of the effect of the modification, alteration, or repair on the unsafe condition addressed by this AD; and, if the unsafe condition has not been eliminated, the request should include specific proposed actions to address it.

Compliance: Required as indicated, unless accomplished previously.

To prevent damaged or severed bonding jumpers, which, in the event of a lightning strike, could result in severed elevator control cables and consequent reduced elevator control capability and reduced controllability of the airplane, accomplish the following:

Restatement of Requirements of AD 2001-17-04

Inspection of the Bonding Jumpers

(a) For airplanes subject to the requirements of AD 2001-17-04, amendment 39-12395: Except as provided by paragraph (f) of this AD, within the next 100 flight hours after September 5, 2001 (the effective date of AD 2001-17-04), perform a detailed visual inspection to determine if the two bonding jumpers that connect the horizontal to the vertical stabilizers are properly installed, per EMBRAER Alert Service Bulletin 145-55-A025, dated June 5, 2001.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Follow-On Action

(b) For airplanes subject to the requirements of paragraph (a) of this AD: If both bonding jumpers are installed properly, before further flight, determine if the jumpers are mechanically tensioned to a slack distance of 5 millimeters (mm) or less between the reference line and the jumper as specified in View E of EMBRAER Alert Service Bulletin 145-55-A025, dated June 5, 2001.

(1) If any slack distance is 5 mm or less, before further flight, replace the bonding jumper with a new jumper having part number (P/N) LN926416X165, per the alert service bulletin.

(2) If any slack distance is 6 mm or more, at the time specified in paragraph (d) of this AD, accomplish those actions specified in paragraph (d) of this AD.

Corrective Actions

(c) For airplanes subject to the requirements of paragraph (a) of this AD: If either bonding jumper is not installed properly (e.g., misaligned, signs of previous elongation, or damage), before further flight, replace the bonding jumper with a new jumper having P/N LN926416X165, per EMBRAER Alert Service Bulletin 145-55-A025, dated June 5, 2001.

Inspection of the Connecting Supports

(d) For airplanes subject to the requirements of AD 2001-17-04: Within the next 100 flight hours after September 5, 2001, perform a detailed visual inspection to determine if the supports that connect the bonding jumpers to the horizontal stabilizers are deformed, cracked, or ruptured; per EMBRAER Alert Service Bulletin 145-55-A025, dated June 5, 2001.

(1) If no deformation is detected, no further action is required by this paragraph.

(2) If any connecting support having deformation of 30 degrees or less has any sign of a painting discrepancy, before further flight, repaint the support per the alert service bulletin. The support must remain in the position it was found, as specified in the alert service bulletin.

(3) If any connecting support is deformed above 30 degrees or any signs of cracking or ruptures are detected, before further flight, replace the connecting support with a new support per the alert service bulletin.

New Requirements of This AD

(e) For airplanes subject to the requirements of AD 2001-17-04: If the inspection required by paragraph (f) of this AD is performed before the inspections specified in paragraphs (a) and (d) of this AD, it is not necessary to perform the inspections specified in paragraphs (a) and (d) of this AD.

Repetitive Inspections

(f) For all airplanes: Except as required by paragraphs (g) and (h) of this AD, within 100 flight hours after the effective date of this AD, perform a detailed visual inspection as specified in paragraphs (f)(1) and (f)(2) of this AD, per EMBRAER Alert Service Bulletin 145-55-A028, dated April 10, 2002. If any discrepancy is found during any inspection required by this paragraph: Before further flight, perform applicable corrective actions (including replacing any discrepant part with a new part and restoring the support painting) per the alert service bulletin. Repeat the inspection at least every 800 flight hours, except as provided by paragraphs (g) and (h) of this AD. Submit a report after each inspection per paragraph (i) of this AD.

(1) Inspect both bonding jumpers of the vertical-to-horizontal stabilizer to detect discrepancies (including overstretching, fraying, or other damage; and misaligned or otherwise incorrectly installed bonding jumper terminals).

(2) Inspect the connecting support structure to detect deformation or signs of cracks or ruptures, and, before further flight, inspect the general conditions of the paint of any discrepant support.

Conditional Requirements for Immediate Inspection

(g) Notwithstanding the requirements of paragraph (f) of this AD: Before further flight following removal of any parts identified in paragraphs (g)(1), (g)(2), and (g)(3) of this AD, perform the inspection specified in paragraph (f) of this AD. The task numbers below are identified in EMBRAER Aircraft Maintenance Manuals AMM-145/1124 and AMM-145/1230.

(1) The horizontal stabilizer (as specified in EMBRAER Airplane Maintenance Manual (AMM) task number 55-10-00-000-801-A).

(2) The horizontal stabilizer actuator (as specified in AMM task number 27-40-02-000-801-A).

(3) The left-hand or right-hand seal fairings (as specified in AMM task number 55-36-00-020-002-A00).

(h) Before further flight following a lightning strike, perform a “Lightning Strike—Inspection Check” and applicable corrective actions, per AMM task number 05-50-01-06.

Note 3: Following accomplishment of an inspection per paragraph (g) or (h) of this AD, the repetitive interval of the next inspection may be extended to 800 flight hours after accomplishment of the inspection required by paragraph (g) or (h) of this AD, as applicable.

Reporting Requirement

(i) At the applicable time specified in paragraph (i)(1) or (i)(2) of this AD: Submit a report of the results (both positive and negative findings) of each inspection required by paragraphs (f), (g), and (h) of this AD to CTA-IFI-FDH, PO Box 6001, 12231-970—São José dos Campos-SP, Brazil; fax 55 (12) 3941-4766. Each report must include the inspection results, a description of any discrepancy found, the airplane serial number, and the number of total flight cycles and flight hours on the airplane. Information collection requirements contained in this AD have been approved by the Office of Management and Budget (OMB) under the provisions of the Paperwork Reduction Act of 1980 (44 U.S.C. 3501 et seq.) and have been assigned OMB Control Number 2120-0056.

(1) For airplanes on which the initial inspection required by paragraph (f), (g), or (h) of this AD is accomplished AFTER the effective date of this AD: Submit the report for that inspection within 30 days after the initial inspection, and submit a report thereafter within 30 days after each subsequent inspection.

(2) For airplanes on which the initial inspection required by paragraph (f), (g), or (h) of this AD was accomplished BEFORE the effective date of this AD: Submit the report within 30 days after the effective date of this AD, and submit a report thereafter within 30 days after each subsequent inspection.

Alternative Methods of Compliance

(j) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 4: Information concerning the existence of approved alternative methods of compliance with this AD, if any, may be obtained from the Atlanta ACO.

Special Flight Permits

(k) Special flight permits may be issued per sections 21.197 and 21.199 of the Federal Aviation Regulations (14 CFR 21.197 and 21.199) to operate the airplane to a location where the requirements of this AD can be accomplished.

Incorporation by Reference

(l) Except as required by paragraphs (g) and (h) of this AD: The actions must be done per EMBRAER Alert Service Bulletin 145-55-A025, dated June 5, 2001; and EMBRAER Alert Service Bulletin 145-55-A028, dated April 10, 2002; as applicable.

(1) The incorporation by reference of EMBRAER Alert Service Bulletin 145-55-A028, dated April 10, 2002, is approved by the Director of the Federal Register, per 5 U.S.C. 552(a) and 1 CFR part 51.

(2) The incorporation by reference of EMBRAER Alert Service Bulletin 145-55-A025, dated June 5, 2001, was approved previously by the Director of the Federal Register as of September 5, 2001 (66 FR 43768, August 21, 2001).

(3) Copies may be obtained from Empresa Brasileira de Aeronautica S.A. (EMBRAER), PO Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 5: The subject of this AD is addressed in Brazilian emergency airworthiness directive 2001-06-03 R1, dated April 11, 2002.

Effective Date

(m) This amendment becomes effective on May 16, 2002.

Issued in Renton, Washington, on April 19, 2002.
Lirio Liu-Nelson,
Acting Manager, Transport Airplane Directorate, Aircraft Certification Service.

[FR Doc. 02-10275 Filed 4-30-02; 8:45 am]

BILLING CODE 4910-13-P